DEPARTMENT OF ENERGY

Federal Energy Regulatory Commission

[Docket No. CP16-361-000]

Columbia Gulf Transmission, LLC; Notice of Intent To Prepare an Environmental Impact Statement for the Proposed Gulf Xpress Project, Request for Comments on Environmental Issues, and Notice of Public Scoping Meeting

The staff of the Federal Energy Regulatory Commission (FERC or Commission) will prepare an environmental impact statement (EIS) that will discuss the environmental impacts of the Gulf XPress Project (GXP) involving construction and operation of facilities by Columbia Gulf Transmission, LLC (Columbia Gulf) in Kentucky, Tennessee, and Mississippi. The Commission will use this EIS in its decision-making process to determine whether the project is in the public convenience and necessity.

This notice announces the opening of the scoping process the Commission will use to gather input from the public and interested agencies on the project. You can make a difference by providing us with your specific comments or concerns about the project. Your comments should focus on the potential environmental effects, reasonable alternatives, and measures to avoid or lessen environmental impacts. Your input will help the Commission staff determine what issues they need to evaluate in the EIS. To ensure that your comments are timely and properly recorded, please send your comments so that the Commission receives them in Washington, DC, on or before July 5, 2016.

If you sent comments on this project to the Commission before the opening of this docket on April 29, 2016, you will need to file those comments in Docket No. CP16-361-000 to ensure they are considered as part of this proceeding.

This notice is being sent to the Commission's current environmental mailing list for this project. State and local government representatives should notify their constituents of this proposed project and encourage them to comment on their areas of concern.

If you are a landowner receiving this notice, a pipeline company representative may contact you about the acquisition of an easement to construct, operate, and maintain the proposed facilities. The company would seek to negotiate a mutually acceptable agreement. However, if the Commission approves the project, that approval conveys with it the right of eminent domain. Therefore, if easement negotiations fail to produce an agreement, the pipeline company could initiate condemnation proceedings where compensation would be determined in accordance with state law

A fact sheet prepared by the FERC entitled “An Interstate Natural Gas Facility On My Land? What Do I Need To Know?” is available for viewing on the FERC Web site (www.ferc.gov). This fact sheet addresses a number of typically asked questions, including the use of eminent domain and how to participate in the Commission's proceedings.

Public Participation

For your convenience, there are four methods you can use to submit your comments to the Commission. The Commission will provide equal consideration to all comments received, whether filed in written form or provided verbally. The Commission encourages electronic filing of comments and has expert staff available to assist you at (202) 502-8258 or efiling@ferc.gov. Please carefully follow these instructions so that your comments are properly recorded.

(1) You can file your comments electronically using the eComment feature on the Commission's Web site (www.ferc.gov) under the link to Documents and Filings. This is an easy method for submitting brief, text-only comments on a project;

(2) You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address. Be sure to reference the project docket number (CP16-361-000) with your submission: Kimberly D. Bose, Secretary, Federal Energy Regulatory Commission, 888 First Street NE., Room 1A, Washington, DC 20426.

(4) In lieu of sending written or electronic comments, the Commission invites you to attend the public scoping meeting its staff will conduct in the project area, scheduled as follows: FERC Public Scoping Meeting, Gulf Xpress Project, Tuesday, June 21, 2016 at 6:00 p.m., Cane Ridge High School, 12848 Old Hickory Boulevard, Antioch, TN 37013.

The doors will open at 5 p.m. at which time we will begin our sign up of speakers for the meetings. For the hour prior to the start of the meeting, Columbia Gulf representatives will be present with maps depicting the project area and to answer questions.

The scoping meeting will begin at 6 p.m. with a description of our environmental review process by Commission staff, after which speakers will be called. The meeting will end once all speakers have provided their comments or at 10 p.m., whichever comes first. Please note that depending on the number of people signed up to speak, there may be a time limit of 3 minutes to present comments, and speakers should structure their comments accordingly. If time limits are implemented, they will be strictly enforced to ensure that as many individuals as possible are given an opportunity to comment. The meeting will be recorded by a court reporter to ensure comments are accurately recorded. The transcript of the meeting will be entered into the formal record of the Commission proceeding.

Please note this is not your only opportunity to provide public input; refer to the review process flow chart in appendix 1.¹

¹ The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the “Additional Information” section of this notice.

Summary of the Proposed Project

The GXP would increase the existing transportation capacity of Columbia Gulf's system by about 860,000 dekatherms per day of natural gas. According to Columbia Gulf, its project is necessary to provide additional pipeline capacity to meet contracted-for firm transportation demand. The proposed facilities would enable shippers the opportunity to transport natural gas to Gulf Coast high-demand markets, markets in Mississippi and Louisiana that are accessible through delivery points along Columbia Gulf's system, and markets accessible through other interstate pipeline connected to Columbia Gulf's system. Columbia Gulf has entered into binding precedent agreements for 100 percent of the GXP capacity.

For the GXP, Columbia Gulf proposes to construct, operate, and maintain seven new natural gas-fired turbine-driven compressor stations:

• The Morehead Compressor Station, a 44,800-horsepower (hp) compressor station in Rowan County, Kentucky;

• the Paint Lick Compressor Station, a 41,000-hp compressor station in Garrard County, Kentucky;

• the Goodluck Compressor Station, a 31,8000-hp compressor station in Metcalfe County, Kentucky;

• the Cane Ridge Compressor Station, a 41,000-hp compressor station in Davidson County, Tennessee;

• the Clifton Junction Compressor Station, a 31,800-hp compressor station in Wayne County, Tennessee;

• the New Albany Compressor Station, a 31,800-hp compressor station in Union County, Mississippi; and

• the Holcomb Compressor Station, a 31,800-hp compressor station in Grenada County, Mississippi.

The GXP would also involve:

• Installation of an additional 15,900 hp of compression at the anticipated Grayson Compressor Station ² in Carter County, Kentucky; and

² The Grayson Compressor Station is proposed for construction in Docket No. CP15-539-000 as part of Columbia Gulf's Rayne XPress Certificated Capacity Increase Project. On April 6, 2016, FERC staff issued the Draft EIS for the Columbia Gas Transmission Leach XPress Pipeline Project and the Columbia Gulf Transmission Rayne XPress Expansion Project, which includes the proposed Grayson Compressor Station. As of this date, the Commission has not authorized construction of these facilities.

• demolition and construction of a new flow control building to upgrade flow control capabilities at the existing Leach C Meter Station in Boyd County, Kentucky.

All new compressor stations would include a building to house the compressors; filter/separator and gas cooling equipment; suction and discharge piping; and appurtenant facilities. All stations would be fenced and include a permanent access road.

The general location of the project facilities is shown in appendix 2.

Land Requirements for Construction

The GXP would temporarily disturb about 198 acres during construction with approximately 82 acres converted to permanent use for station operations. At the Grayson Compressor Station site, no additional land would be disturbed during construction beyond that used for the original facility. At the Leach C Meter Station, approximately 1.4 acres of land outside the existing station fence line would be temporarily disturbed during construction. All permanent modifications at the Leach C Meter Station would occur within the existing facility resulting in no new permanent impacts from station operations.

The EIS Process

The National Environmental Policy Act (NEPA) requires the Commission to take into account the environmental impacts that could result from an action whenever it considers the issuance of a Certificate of Public Convenience and Necessity. NEPA also requires us ³ to discover and address concerns the public may have about proposals. This process is referred to as scoping. The main goal of the scoping process is to focus the analysis in the EIS on the important environmental issues. By this notice, the Commission requests public comments on the scope of the issues to address in the EIS. We will consider all filed comments during the preparation of the EIS.

³ “We,” “us,” and “our” refer to the environmental staff of the Commission's Office of Energy Projects.

In the EIS, we will discuss impacts that could occur as a result of the construction and operation of the proposed project under these general headings:

• Geology and soils;

• water resources, fisheries, and wetlands;

• vegetation and wildlife;

• endangered and threatened species;

• cultural resources;

• socioeconomics;

• land use;

• air quality and noise;

• public safety; and

• cumulative impacts.

We will also evaluate possible alternatives to the proposed project or portions of the project, and make recommendations on how to lessen or avoid impacts on the various resource areas.

The EIS will present our independent analysis of the issues. We will publish and distribute the draft EIS for public comment. After the comment period, we will consider all timely comments and revise the document, as necessary, before issuing a final EIS. To ensure we have the opportunity to consider and address your comments, please carefully follow the instructions in the Public Participation section, beginning on page 2.

With this notice, we are asking agencies with jurisdiction by law and/or special expertise with respect to the environmental issues related to this project to formally cooperate with us in the preparation of the EIS.⁴ Agencies that would like to request cooperating agency status should follow the instructions for filing comments provided under the Public Participation section of this notice.

⁴ The Council on Environmental Quality regulations addressing cooperating agency responsibilities are at Title 40, Code of Federal Regulations, Part 1501.6.

Consultations Under Section 106 of the National Historic Preservation Act

In accordance with the Advisory Council on Historic Preservation's implementing regulations for section 106 of the National Historic Preservation Act, we are using this notice to initiate consultation with the applicable State Historic Preservation Office(s), and to solicit their views and those of other government agencies, interested Indian tribes, and the public on the project's potential effects on historic properties.⁵ We will define the project-specific Area of Potential Effects (APE) in consultation with the SHPO(s) as the project develops. On natural gas facility projects, the APE at a minimum encompasses all areas subject to ground disturbance (examples include construction right-of-way, contractor/pipe storage yards, compressor stations, and access roads). Our EIS for this project will document our findings on the impacts on historic properties and summarize the status of consultations under section 106.

⁵ The Advisory Council on Historic Preservation regulations are at Title 36, Code of Federal Regulations, Part 800. Those regulations define historic properties as any prehistoric or historic district, site, building, structure, or object included in or eligible for inclusion in the National Register of Historic Places.

Currently Identified Environmental Issues

We have already identified several issues that we think deserve attention based on a preliminary review of the proposed facilities and the environmental information provided by Columbia Gulf. This preliminary list of issues may change based on your comments and our analysis.

• air quality and noise impacts;

• wildlife impacts;

• alternative compressor station locations; and

• health and safety of nearby residences during the operation of the proposed facilities.

Environmental Mailing List

The environmental mailing list includes federal, state, and local government representatives and agencies; elected officials; environmental and public interest groups; Native American Tribes; other interested parties; and local libraries and newspapers. This list also includes all who own homes within certain distances of the compressor and meter station facilities and anyone who submits comments on the project. We will update the environmental mailing list as the analysis proceeds to ensure that we send the information related to this environmental review to all individuals, organizations, and government entities interested in and/or potentially affected by the proposed project.

Copies of the completed draft EIS will be sent to the environmental mailing list for public review and comment. If you would prefer to receive a paper copy of the document instead of the CD version or would like to remove your name from the mailing list, please return the attached Information Request (appendix 3).

Becoming an Intervenor

You may want to become an “intervenor,” which is an official party to the Commission's proceeding. Intervenors play a more formal role in the process and are able to file briefs, appear at hearings, and be heard by the courts if they choose to appeal the Commission's final ruling. An intervenor formally participates in the proceeding by filing a request to intervene. Motions to intervene are more fully described at http://www.ferc.gov/resources/guides/how-to/intervene.asp. Instructions for becoming an intervenor are in the “Document-less Intervention Guide” under the “e-filing” link on the Commission's Web site.

Additional Information

Additional information about the project is available from the Commission's Office of External Affairs at (866) 208-FERC or on the FERC Web site (www.ferc.gov) using the eLibrary link. Click on the eLibrary link, click on “General Search” and enter the docket number, excluding the last three digits in the Docket Number field (i.e., CP16-361-000). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription, which allows you to keep track of all formal issuances and submittals in specific dockets. This can reduce the amount of time you spend researching proceedings by automatically providing you with notification of these filings, document summaries, and direct links to the documents. Go to www.ferc.gov/docs-filing/esubscription.asp.

Finally, public meetings or site visits will be posted on the Commission's calendar located at www.ferc.gov/EventCalendar/EventsList.aspx along with other related information.

Dated: June 2, 2016.
Kimberly D. Bose,
Secretary.

[FR Doc. 2016-13649 Filed 6-8-16; 8:45 am]

BILLING CODE 6717-01-P